DEPARTMENT OF ENERGY

Federal Energy Regulatory Commission

[Project No. 2149-131]

Public Utility District No. 1 of Douglas County (Douglas PUD); Notice of Application Tendered for Filing With the Commission and Establishing Procedural Schedule for Licensing and Deadline for Submission of Final Amendments

June 2, 2010.

Take notice that the following hydroelectric application has been filed with the Commission and is available for public inspection.

a. Type of Application: New Major License.

b. Project No.: 2149-131.

c. Date Filed: May 27, 2010.

d. Applicant: Public Utility District No. 1 of Douglas County (Douglas PUD).

e. Name of Project: Wells Hydroelectric Project.

f. Location: The existing project is located on the Columbia River in Douglas, Okanogan, and Chelan counties, Washington. The project occupies 15.15 acres of Federal land managed by the U.S. Department of the Interior and the U.S. Army Corps of Engineers.

g. Filed Pursuant to: Federal Power Act 16 U.S.C. 791(a)-825(r).

h. Applicant Contact: William C. Dobbins, General Manager, Douglas PUD, 1151 Valley Mall Parkway, East Wenatchee, WA 98802; Telephone (509) 881-2220.

i. FERC Contact: Bob Easton, (202) 502-6045 or robert.easton@ferc.gov.

j. This application is not ready for environmental analysis at this time.

k. The Project Description: The existing Wells Hydroelectric Project consists of a single development with an installed capacity of 774,300 kilowatts. Average annual generation of the project is 4,364,959 megawatt-hours. In addition to providing electric service to over 18,000 customers in Douglas County, power from the Wells Project is used to meet both daily and seasonal peaks in power demand in the Pacific Northwest region and contributes to the reliability and stability of the regional electric system.

The Wells Project consists of: (1) A 1,130-foot-long and 168-foot-wide concrete hydrocombine dam with integrated generating units, spillways, switchyard and fish passage facilities; (2) a 2,300-foot-long and 40-foot-high earth and rock-filled west embankment; (3) a 1,030-foot-long and 160-foot-high earth and rock-filled east embankment; (4) eleven 46-foot-wide and 65-foot-high ogee-designed spillway bays with 2 vertical lift gates (upper leaf is 46 feet by 30 feet and lower leaf is 46 feet by 35 feet); (5) five spillways modified to accommodate the juvenile fish bypass system; (6) 10 generating units each housed in a 95-foot-wide and 172-foot-long concrete structure with an installed capacity of 774.3 megawatts (MW) and maximum capacity of 840 MW; (7) five 14.4-kilovolts (kV) power transformers each connected to 2 generating units converting the power to 230 kV; (8) two 41-miles-long 230-kV single-circuit transmission lines running parallel to each other; and (9) appurtenant facilities. The Wells Project is operated as a run-of-river facility with daily outflows to the Wells Reservoir equaling daily inflows.

Douglas PUD is not proposing any changes to project operations or the project boundary for the Wells Project. New facilities proposed by Douglas PUD include new interpretive displays, new facilities and infrastructure at the Wells and Methow fish hatcheries, new recreation facilities, and participation in a white sturgeon hatchery and rearing facility.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following Hydro Licensing Schedule. Revisions to the schedule may be made as appropriate.

Milestone | Target date
Notice of Acceptance/Notice of Ready for Environmental Analysis | August 2010.
Filing of recommendations, preliminary terms and conditions, and fishway prescriptions | October 2010.
Commission issues Draft EA | April 2011.
Comments on Draft EA | May 2011.
Modified Terms and Conditions | June 2011.
Commission Issues Final EA | September 2011.

o. Final amendments to the application must be filed with the Commission no later than 30 days from the issuance date of the notice of ready for environmental analysis.

Kimberly D. Bose,
Secretary.

[FR Doc. 2010-14026 Filed 6-10-10; 8:45 am]

BILLING CODE 6717-01-P